DEPARTMENT OF COMMERCE

International Trade Administration

[A-570-899]

Certain Artist Canvas From the People's Republic of China: Continuation of the Antidumping Duty Order

AGENCY: Enforcement and Compliance, International Trade Administration, Department of Commerce.

SUMMARY: As a result of the determinations by the Department of Commerce (“Department”) and the International Trade Commission (“ITC”) in their five year (“sunset”) reviews that revocation of the antidumping duty (“AD”) order on certain artist canvas from the People's Republic of China (“PRC”) would likely lead to a continuation or recurrence of dumping and material injury to an industry in the United States, the Department is publishing a notice of continuation of the AD order on certain artist canvas from the PRC.

DATES: Effective March 21, 2017.

FOR FURTHER INFORMATION CONTACT: Paul Stolz; AD/CVD Operations, Office III, Enforcement and Compliance, International Trade Administration, U.S. Department of Commerce, 1401 Constitution Avenue NW., Washington, DC 20230; telephone: 202-482-4474.

SUPPLEMENTARY INFORMATION:

Background

On June 1, 2006, the Department published the AD order on certain artist canvas from the PRC.¹ On October 3, 2016, the Department initiated the second sunset review of the AD order on certain artist canvas from the PRC, pursuant to section 751(c) of the Tariff Act of 1930, as amended (“Act”).² As a result of its review, the Department determined that revocation of the AD order on certain artist canvas from the PRC would likely lead to a continuation or recurrence of dumping and, therefore, notified the ITC of the magnitude of the margins likely to prevail should the order be revoked.³ On February 22, 2017, the ITC determined, pursuant to section 751(c) of the Act, that revocation of the AD order on certain artist canvas from the PRC would likely lead to a continuation or recurrence of material injury to an industry in the United States within a reasonably foreseeable time.⁴

¹ See Notice of Antidumping Duty Order: Certain Artist Canvas from the People's Republic of China, 71 FR 31154 (June 1, 2006).

² See Initiation of Five-Year (“Sunset”) Review, 81 FR 67967 (October 3, 2016).

³ See Artist Canvas from the People's Republic of China: Final Results of the Expedited Second Sunset Review of the Antidumping Duty Order, 82 FR 8723 (January 30, 2017).

⁴ See USITC Publication Artists' Canvas from China, (Inv. No. 731-TA-1091 (Second Review), USITC Publication 4674, March 2017), and Artist Canvas from China, 82 FR 13011 (March 8, 2017).

Scope of the Order

The products covered by this order are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by this proceeding.

Artist canvases subject to this order are currently classifiable under subheadings 5901.90.20.00, 5901.90.40.00, 5903.90.2500, 5903.90.2000, 5903.90.1000, 5907.00.8090, 5907.00.8010, and 5907.00.6000 of the Harmonized Tariff Schedule of the United States (“HTSUS”). Specifically excluded from the scope of this order are tracing cloths, “paint by number” or “or “paint-it-yourself” artist canvases with a copyrighted preprinted outline, pattern, or design, whether or not included in a painting set or kit.⁵ Also excluded are stretcher strips, whether or not made from wood, so long as they are not incorporated into artist canvases or sold as part of an artist canvas kit or set. While the HTSUS subheadings are provided for convenience and customs purposes, our written description of the scope of this proceeding is dispositive.

⁵ Artist canvases with a non-copyrighted preprinted outline, pattern, or design are included in the scope, whether or not included in a painting set or kit.

Additionally, we have determined that canvas woven and primed in India, but cut, stretched and framed in the PRC and exported from the PRC, are not subject to the order covering artist canvas from the PRC. See Notice of Scope Rulings, 75 FR 14138 (March 24, 2010).

Continuation of the Order

As a result of these determinations by the Department and the ITC that revocation of the AD order on certain artist canvas from the PRC would likely lead to a continuation or recurrence of dumping and material injury to an industry in the United States, pursuant to section 751(d)(2) of the Act, the Department hereby orders the continuation of the AD order on certain artist canvas from the PRC. U.S. Customs and Border Protection will continue to collect AD cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of this continuation.

This five-year (sunset) review and this notice are in accordance with section 751(c) of the Act and published pursuant to section 777(i)(1) of the Act and 19 CFR 351.218(f)(4).

Dated: March 13, 2017.
Ronald K. Lorentzen,
Acting Assistant Secretary for Enforcement and Compliance.

[FR Doc. 2017-05532 Filed 3-20-17; 8:45 am]

BILLING CODE 3510-DS-P